DEPARTMENT OF ENERGY

Federal Energy Regulatory Commission

[Project Nos. 2897-052, 2931-044, 2932-051, 2941-047, 2942-054, and 2984-123]

Sappi North America, Inc., Presumpscot Hydro LLC; Notice of Application for Transfer of License and Lease of Project Lands Accepted for Filing and Soliciting Comments, Motions To Intervene, and Protests

Take notice that the following hydroelectric application has been filed with the Commission and is available for public inspection:

a. Type of Application: Transfer of License and Lease of Project Lands.

b. Project Nos.: 2897-052, 2931-044, 2932-051, 2941-047, 2942-054, and 2984-123.

c. Date Filed: October 20, 2020.

d. Applicants: Sappi North America, Inc. (Transferor). Presumpscot Hydro LLC (Transferee).

e. Name of Projects: Saccarappa, Gambo, Mallison Falls, Little Falls, Dundee, and Eel Weir.

f. Location: The Saccarappa, Gambo, Mallison Falls, Little Falls, Dundee projects are located on the Presumpscot River, in the Towns of Gorham and Windham and the City of Westbrook in Cumberland County, Maine. The Eel Weir Project is located on Sebago Lake near the cities of Standish and Windham in Cumberland County, Maine.

g. Filed Pursuant to: Federal Power Act, 16 U.S.C. 791a-825r.

h. Applicant Contacts:

For Transferor: Ms. Briana O'Regan, Sappi North America, Inc., 179 John Roberts Road, South Portland, ME 04106, phone: (207) 854-7070, Email: briana.oregan@sappi.com.

For Transferor and Transferee: Mr. Matthew D. Manahan, Counsel for Transferor and Transferee, Pierce Atwood LLP, 254 Commercial St., Portland, ME 04101, phone: (207) 791-1189, Email: mmanahan@pierceatwood.com.

i. FERC Contact: Mrs. Anumzziatta Purchiaroni, (202) 502-6191 or Anumzziatta.purchiaroni@ferc.gov.

j. Deadline for filing comments, motions to intervene, and protests: Within 30 days from the issuance date of this notice.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2897-052, P-2931-044, P-2932-051, P-2941-047, P-2942-054, and P-2984-123. Comments emailed to Commission staff are not considered part of the Commission record.

The Commission's Rules of Practice and Procedure require all intervenors filing documents with the Commission to serve a copy of that document on each person on the official service list for the project. Further, if an intervenor files comments or documents with the Commission relating to the merits of an issue that may affect the responsibilities of a resource agency, it must also serve a copy of the document on that resource agency.

k. Description of Transfer and Lease of Project Lands Request: The applicants request that the Commission approve the transfer of the following projects from Sappi North America, Inc. (Sappi or Transferor) to Presumpscot Hydro LLC (Presumpscot or Transferee): Saccarappa Project No. 2897, Gambo Project No. 2931, Mallison Falls Project No. 2932, Little Falls Project No. 2941, Dundee Project No. 2942, and Eel Weir Project No. 2984-123. The applicants propose the transfer because of an internal corporate reorganization that resulted in the formation of the Sappi subsidiary, Presumpscot. As part of the proposed transfers, the Transferor would retain ownership of the transmission line properties between the Dundee Project and Transferor's Westbrook Mill. In addition, the Transferor would retain ownership of the transmission line properties between the Mallison Falls Project and Transferors' Westbrook Mill (which transmission line connects the Gambo, Little Falls, and Mallison Falls projects to the mill). The applicants request Commission approval to lease the transmission line property to the Transferee. Furthermore, the Transferor requests approval to lease to the Transferee certain lands associated with the Saccarappa Project, including property associated with required fish passage facilities. By an Order issued on April 4, 2019, the Commission approved a surrender of the Saccarappa Project license and related license amendments for the Mallison Falls, Little Falls, Gambo, and Dundee Projects. The license surrender would become effective upon removal of the Saccarappa Dam and other project works, installation of fish passage facilities, and the completion of other requirements. The completed fish passage facilities would become part of the Mallison Falls Project. The applicants also request Commission approval to convey in fee the proposed leased lands occupied by the fish passage facilities to the Transferee once the surrender becomes effective.

l. Locations of the Applications: The Commission provides all interested persons an opportunity to view and/or print the contents of this document via the internet through the Commission's website at http://www.ferc.gov/docs-filing/elibrary.asp. Enter the docket number excluding the last three digits in the docket number field to access the document. You may also register online at http://www.ferc.gov/docs-filing/esubscription.asp to be notified via email of new filings and issuances related to this or other pending projects. Agencies may obtain copies of the application directly from the applicants. At this time, the Commission has suspended access to the Commission's Public Reference Room due to the proclamation declaring a National Emergency concerning the Novel Coronavirus Disease (COVID-19), issued by the President on March 13, 2020. For assistance, contact FERC at FERCOnlineSupport@ferc.gov or call toll free, (866) 208-3676 or TTY, (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: January 26, 2021.
Kimberly D. Bose,
Secretary.

[FR Doc. 2021-02059 Filed 1-29-21; 8:45 am]

BILLING CODE 6717-01-P